DEPARTMENT OF HEALTH AND HUMAN SERVICES

National Institutes of Health

4th Annual Trauma Spectrum Conference: Bridging the Gap Between Research and Clinical Practice of Psychological Health and Traumatic Brain Injury: Prevention, Diagnosis, Treatment and Recovery for the Iraq and Afghanistan Cohort

Notice is hereby given of the “4th Annual Trauma Spectrum Conference: Bridging the Gap Between Research and Clinical Practice of Psychological Health and Traumatic Brain Injury: Prevention, Diagnosis, Treatment and Recovery for the Iraq and Afghanistan Cohort” to be held December 8-9, 2011, at the National Institutes of Health (NIH), Bethesda, Maryland.

This year's event focuses on bridging the gap between research and clinical practices for psychological health and traumatic brain injury (TBI) health concerns for returning service members and veterans of the conflicts in Iraq and Afghanistan.

Presented annually by three Federal partners—the Defense Centers of Excellence for Psychological Health and Traumatic Brain Injury (part of the Department of Defense), the National Institutes of Health, and the Department of Veterans Affairs—the conference highlights research findings, resources, and best practices for Post-Traumatic Stress Disorder and TBI recovery. Additional topics include cognitive rehabilitation, sleep disorders, pain management, depression, implementation science, comparative effectiveness research, co-occurring disorders, and integrative telehealth/mobile technologies. Attendees are expected to include a wide array of researchers, clinicians, advocates, military service members, veterans, and their families.

The conference will be held on Thursday, December 8, and Friday, December 9, in the Natcher Conference Center on the NIH main campus, from 8:30 a.m. to 4:30 p.m. each day. The conference is free, but pre-registration is required. Registration is now open.

To view the agenda, information about continuing education units, and general conference information, visit the Trauma Spectrum Conference Web site at http://www.dcoe.health.mil/Training/TraumaSpectrumConference.aspx.

Information on traveling to NIH and a visitor's map can be found at http://parking.nih.gov/visitor_access_map.htm.

For attendees who take Metrorail, the nearest station is Medical Center (on the Red Line). Pay parking is available at the NIH Gateway parking garage. Sign language interpreters will be available.

Dated: November 18, 2011.
Lawrence A. Tabak,
Deputy Director, National Institutes of Health.

[FR Doc. 2011-30523 Filed 11-25-11; 8:45 am]

BILLING CODE 4140-01-P